DEPARTMENT OF COMMERCE

National Telecommunications and Information Administration

[Docket No. 090109011-9012-01]

Privacy Act of 1974; System of Records

AGENCY: National Telecommunications and Information Administration (NTIA), Department of Commerce.

ACTION: Notice.

SUMMARY: The National Telecommunications and Information Administration (NTIA) publishes this notice to announce the effective date of an amendment to a Privacy Act System of Records entitled COMMERCE/NTIA-1, Applications Related to Coupons for Digital-to-Analog Converter Boxes. NTIA is amending this system of records for applications related to coupons for the Digital-to-Analog Converter Box program to allow for the collection of additional personally identifiable information, namely the collection of the name of the nursing home facility. 47 C.F.R. § 301; see also 73 Fed. Reg. 54,325 (Sept. 19, 2008).

DATES: The amendment to the system of records will be effective on January 14, 2009.

ADDRESSES: For a copy of the original and amended system of records notices please mail requests to Stacy Cheney, Attorney-Advisor, Office of the Chief Counsel, National Telecommunications and Information Administration, Room 4713, 1401 Constitution Avenue, N.W., Washington, DC 20231. A copy of these notices are also available on NTIA's website at: http://www.ntia.doc.gov/ ntiahome/frnotices/2007/System Records_112007.pdf and http:// www.ntia.doc.gov/frnotices/2008/ FR_DTV records_081202.pdf.

FOR FURTHER INFORMATION CONTACT: Stacy Cheney, Attorney-Advisor, Office of the Chief Counsel, National Telecommunications and Information Administration, Room 4713, 1401 Constitution Avenue, N.W., Washington, DC 20231.

SUPPLEMENTARY INFORMATION: On December 2, 2008, NTIA published in the Federal Register a notice requesting comments on a proposed amendment to the Privacy Act System of Records entitled COMMERCE/NTIA-1, Applications Related to Coupons for Digital-to-Analog Converter Boxes. See, 73 Fed. Reg. 73,244 (Dec. 2, 2008). NTIA is amending this system of records for applications related to coupons for the Digital-to-Analog Converter Box program to allow for the collection of additional personally identifiable information, namely the collection of the name of the nursing home facility. 47 C.F.R. § 301; see also 73 Fed. Reg. 54,325 (Sept. 19, 2008). No comments were received in response to the request for comments. By this notice, NTIA is adopting the proposed amendments to the system of records as final without changes effective on January 14, 2009.

Dated: January 9, 2009.
Brenda Dolan,
Freedom of Information/Privacy Act Officer, U.S. Department of Commerce.

[FR Doc. E9-663 Filed 1-13-09; 8:45 am]

BILLING CODE 3510-60-S